DEPARTMENT OF THE INTERIOR

National Park Service

[NPS-WASO-NHPA-27955; PPWONRADE2, PMP00EI05, YP00000]

RIN 1024-AE49

Tribal Consultation; National Register of Historic Places

AGENCY: National Park Service, Interior.

ACTION: Notice of Tribal consultation.

SUMMARY: The National Park Service (NPS) is announcing that it will be conducting Tribal consultation to obtain input from Tribes on proposed changes to regulations governing the National Register of Historic Places.

DATES: Tribes may submit written input by July 8, 2019. Please see the SUPPLEMENTARY INFORMATION section of this notice for dates of the Tribal consultation sessions.

ADDRESSES: Tribes may submit written input to consultation@nps.gov or by mail to National Register of Historic Places, National Park Service, 1849 C Street NW, MS 7228, Washington, DC 20240. Please see the SUPPLEMENTARY INFORMATION section of this notice for addresses of the Tribal consultation sessions.

FOR FURTHER INFORMATION CONTACT: Joy Beasley, Acting Associate Director, Cultural Resources Partnerships and Science & Keeper of the National Register of Historic Places, NPS (WASO), (202) 354-6991, joy_beasley@nps.gov.

SUPPLEMENTARY INFORMATION: On March 1, 2019, NPS published a proposed rule to revise certain regulations, in 36 CFR parts 60 and 63, regarding the listing of properties in the National Register of Historic Places and determinations of eligibility of properties for such listing. See 84 FR 6996. The public comment period for the proposed rule ended on April 30, 2019. During the public comment period, representatives from several Tribes expressed concerns regarding the effect of the proposed rule on Tribes, and some Tribes specifically requested that government-to-government consultation be conducted regarding the proposed rule. The Department of the Interior strives to strengthen its government-to-government relationship with Tribes through a commitment to consultation and recognition of their sovereignty and right to self-governance. Accordingly, we will be hosting the following Tribal consultation sessions:

Date | Time | Address
Monday, June 24, 2019 | 9:30 a.m. to 12:30 p.m., Local Time | (In association with National Congress of American Indians Mid-Year Conference) Nugget Casino & Resort, 1100 Nugget Ave., Sparks, NV 89431, Room: Southern Pacific B.
Monday, July 1, 2019 | 1 p.m. to 3 p.m., Eastern Time | (By teleconference) Call-in number: 888-324-2907, Passcode: 8756820.

The NPS looks forward to hearing Tribal input on these proposed regulations at one of the above sessions or in writing. NPS will be considering comments already received by Tribes but welcomes any supplementary information that Tribes may wish to submit.

Dated: May 16, 2019.
Ryan Hambleton,
Deputy Assistant Secretary for Fish and Wildlife and Parks.

[FR Doc. 2019-10853 Filed 5-23-19; 8:45 am]

BILLING CODE 4312-52-P